DEPARTMENT OF ENERGY

Federal Energy Regulatory Commission

Combined Notice of Filings

Take notice that the Commission has received the following Natural Gas Pipeline Rate and Refund Report filings:

Filings Instituting Proceedings

Docket Numbers: RP13-697-000.

Applicants: Ozark Gas Transmission, L.L.C.

Description: Negotiated Rate—SW Energy contract 820131 4-1-2013 to be effective 4/1/2013.

Filed Date: 3/22/13.

Accession Number: 20130322-5037.

Comments Due: 5 p.m. ET 4/3/13.

Docket Numbers: RP13-698-000.

Applicants: Natural Gas Pipeline Company of America.

Description: Negotiated Rate—Twin Eagle to be effective 4/1/2013.

Filed Date: 3/22/13.

Accession Number: 20130322-5051.

Comments Due: 5 p.m. ET 4/3/13.

Docket Numbers: RP13-699-000.

Applicants: CenterPoint Energy Gas Transmission Comp.

Description: CEGT LLC—Fuel Tracker Filing Effective May 1, 2013 to be effective 5/1/2013.

Filed Date: 3/22/13.

Accession Number: 20130322-5056

Comments Due: 5 p.m. ET 4/3/13.

Docket Numbers: RP13-700-000.

Applicants: Cheyenne Plains Gas Pipeline Company, L.

Description: Non-Conforming Negotiated Rate Agreement and Points of Contact Filing to be effective 4/1/2013.

Filed Date: 3/22/13.

Accession Number: 20130322-5082.

Comments Due: 5 p.m. ET 4/3/13.

Docket Numbers: RP13-701-000.

Applicants: Texas Gas Transmission, LLC

Description: Revision to Letter Agmts for ENS/EFT Addendums to be effective 4/25/2013.

Filed Date: 3/25/13.

Accession Number: 20130325-5033.

Comments Due: 5 p.m. ET 4/8/13.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: March 25, 2013.
Nathaniel J. Davis, Sr.,
Deputy Secretary.

[FR Doc. 2013-07494 Filed 3-29-13; 8:45 am]

BILLING CODE 6717-01-P